DEPARTMENT OF COMMERCE

National Oceanic and Atmospheric Administration

[RTID 0648-XC953]

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that Exempted Fishing Permits to facilitate the use of fishing year 2023 and 2024 monkfish research set-aside days-at-sea warrant further consideration. This notice provides interested parties the opportunity to comment on the proposed Exempted Fishing Permits.

DATES: Comments must be received on or before June 5, 2023.

ADDRESSES: You may submit written comments by the following method:

• Email: NMFS.GAR.EFP@noaa.gov. Include in the subject line “Comments on 2023 Monkfish RSA EFP.”

FOR FURTHER INFORMATION CONTACT: Spencer Talmage, Fishery Policy Analyst, 978-281-9232, spencer.talmage@noaa.gov.

SUPPLEMENTARY INFORMATION: Exempted Fishing Permits (EFP) that waive monkfish landing limits have been routinely approved since 2007 to increase operational efficiency and optimize research funds generated from the Monkfish Research Set-Aside (RSA) Program. These EFPs would facilitate compensation fishing in support of the projects funded under the 2023/2024 monkfish RSA competition. Consistent with previous years of the monkfish RSA program, these RSA compensation fishing EFPs would authorize an exemption for participating vessels from days-at-sea (DAS) landing limit restrictions in the Monkfish Northern and Southern Fishery Management Areas found at 50 CFR 648.94(b)(1) and (2). Vessels fishing under an RSA DAS would be allowed to harvest monkfish in excess of the usual landing limits associated with their Federal permits.

The Monkfish RSA Program is allocated 500 monkfish RSA DAS annually, as established by the New England and Mid-Atlantic Fishery Management Councils in Amendment 2 to the Monkfish Fishery Management Plan (FMP) (70 FR 21929, April 28, 2005). These monkfish RSA DAS are awarded through a competitive grant program in support of monkfish research. Award recipients sell RSA DAS to limited access monkfish vessel owners to fund approved monkfish RSA research projects. Award recipients receive an allocation of RSA DAS and a maximum amount of monkfish that may be landed under available DAS. Projects are constrained to the total DAS, maximum available landing weight, or grant award timetable, whichever is reached first. To calculate a maximum weight allocation that is similar to the Councils' original intent to be harvested under the allocated 500 RSA DAS, NMFS uses twice the landing limit for Permit Category A and C monkfish vessel fishing in the Southern Fishery Management Area (4,074 lb (2 mt) whole weight) for each RSA DAS. Annually, a maximum of 2,037,000 lb (924 mt) of whole weight may be harvested across all Monkfish RSA projects. Allowing vessels an exemption from monkfish landing limits provides an incentive for vessels to purchase and fish under RSA DAS to catch more monkfish per trip, while constraining each project to a maximum available harvest limit ensures that the overall monkfish RSA catch will not be an excessive burden on the fishery as a whole.

If approved, grant awardees may request minor modifications and extensions to their EFPs throughout the year. EFP modifications and extensions may be granted without further notice if they are deemed essential to facilitate completion of the proposed research and have minimal impacts that do not change the scope of the initially approved EFP request. Any fishing activity conducted outside the scope of the exempted fishing activity would be prohibited.

Authority: 16 U.S.C. 1801 et seq.

Dated: May 15, 2023.
Jennifer M. Wallace,
Acting Director, Office of Sustainable Fisheries, National Marine Fisheries Service.

[FR Doc. 2023-10681 Filed 5-18-23; 8:45 am]

BILLING CODE 3510-22-P